DEPARTMENT OF DEFENSE

Office of the Secretary

Termination of Defense Intelligence Agency Advisory Board

AGENCY: DoD.

ACTION: Termination of Federal Advisory Committee.

SUMMARY: The Department of Defense is publishing this notice to announce that it is terminating the Defense Intelligence Agency Advisory Board, effective February 26, 2014.

FOR FURTHER INFORMATION CONTACT: Jim Freeman, Advisory Committee Management Officer for the Department of Defense, 703-692-5952.

SUPPLEMENTARY INFORMATION: This committee is being terminated under the provisions of the Federal Advisory Committee Act of 1972 (5 U.S.C. Appendix), 41 CFR 102-3.55, and the Government in the Sunshine Act of 1976 (5 U.S.C. 552b), effective February 26, 2014.

Dated: April 14, 2014.
Aaron Siegel,
Alternate OSD Federal Register Liaison Officer, Department of Defense.

[FR Doc. 2014-08763 Filed 4-16-14; 8:45 am]

BILLING CODE 5001-06-P